DEPARTMENT OF TRANSPORTATION

Surface Transportation Board

[STB Finance Docket No. 35237]

Eastern Iowa Industrial Center Rail Project—Construction and Operation Exemption—City of Davenport, IA

AGENCY: Surface Transportation Board.

ACTION: Notice of availability of Environmental Assessment.

SUMMARY: In accordance with Surface Transportation Board (Board) procedures for complying with the National Environmental Policy Act (NEPA) and consistent with the regulations of the Council on Environmental Quality for implementing NEPA at 40 CFR 1506.3, the Board's Section of Environmental Analysis (SEA) is preliminarily recommending that the Board adopt an Environmental Assessment (EA) issued by the U.S. Federal Highway Administration (FHWA) and the City of Davenport. This EA is titled “Eastern Iowa Industrial Center Railroad Extension in Davenport, Eldridge, and Scott County, Iowa.”

The EA concludes that the construction of an approximately 2.8-mile rail line would not significantly affect the quality of the human environment. SEA has independently reviewed the EA and agrees with its analysis and conclusions. Therefore, SEA has determined that the EA meets the standards for an adequate environmental analysis under NEPA and can be adopted, should the Board so decide.

SUPPLEMENTARY INFORMATION: By petition filed with the Board on July 21, 2009, the City of Davenport seeks an exemption under 49 U.S.C. 10502 from the prior approval requirements of 49 U.S.C. 10901 to construct an approximately 2.8-mile rail line in southern Eldridge, northern Davenport, and an unincorporated area of Scott County, Iowa.¹ The proposed project, known as the Eastern Iowa Industrial Center Rail Project, would provide freight rail service to the Eastern Iowa Industrial Center (EIIC), an industrial park located along Interstate 80. The purpose of the proposed project is to provide a rail connection between the EIIC and the Eldridge Line of the Iowa Chicago & Eastern Railroad and to promote economic development in the area.

¹ In an amendment filed on September 8, 2009, the City of Davenport clarified that it also seeks operation authority.

The City of Davenport anticipates that traffic on the proposed route would consist of two trains (one round trip) per week, and each train would have two to three rail cars. As industrial development in the area continues, train traffic would be expected to increase to a maximum of two trains (one round trip) per day for the foreseeable future. Goods to be shipped over the rail line would vary depending on the specific industries that may locate along the route but would likely consist of agricultural equipment, manufactured parts, and corn.

The U.S. Federal Highway Administration (FHWA) and the City of Davenport conducted a streamlined environmental review of the proposed project, and on March 17, 2008, released an Environmental Assessment (EA) titled “Eastern Iowa Industrial Center Railroad Extension in Davenport, Eldridge, and Scott County, Iowa.” The EA addressed the environmental impacts that may result from the proposed Eastern Iowa Industrial Center Rail Project and concluded that the proposed project will have no significant adverse social, economic or environmental impacts. Following a public comment period and a public hearing, which was held in Davenport, Iowa, on April 28, 2008, FHWA determined that the project will not have any significant impact on the human and natural environment in a “Finding of No Significant Impacts” (FONSI) dated July 8, 2008.

Pursuant to 49 U.S.C. 10901, the Board is the Federal agency responsible for granting authority for the construction and operation of new rail line facilities. In accordance with NEPA, the Board must take into account in its decision-making the environmental impacts of its actions. In its regulations implementing NEPA, the Council on Environmental Quality (CEQ) strongly encourages agencies to reduce paperwork and duplication of efforts. One of the methods identified by CEQ to accomplish these goals is adopting the environmental documents prepared by other agencies. Accordingly, pursuant to 40 CFR 1506.3, the Board may adopt the FHWA's EA as its own since the action analyzed by the FHWA is substantially the same as that being proposed by the City of Davenport.

SEA carefully reviewed the EA and conducted an independent assessment of the proposed rail project. Based on this review and assessment, SEA concludes that the EA adequately assesses the environmental impacts of the proposed action and can be adopted. SEA further concludes that the information in the record is adequate and no supplemental or additional environmental review is required. Consequently, SEA preliminarily is recommending that the Board adopt the EA.

Copies of the EA and the subsequent FONSI have been distributed to appropriate Federal, state and local agencies; tribes; and the public and will be made available to additional parties upon request. The EA and FONSI are also available for review on the Board's Web site (http://www.stb.dot.gov) by going to “ENVIRONMENTAL MATTERS,” clicking on the “Key Cases” link, and then clicking on “Eastern Iowa Industrial Center Rail Project.” In addition, the EA is available for inspection at the Main Street Library, which is located at 321 Main Street, Davenport, Iowa 52801-1490. SEA will consider all comments received in making its final recommendations to the Board. The Board will then consider SEA's final recommendations and the complete environmental record in making its final decision in this proceeding.

FOR FURTHER INFORMATION CONTACT: Christa Dean, Attorney and Project Manager, at (202) 245-0299; e-mail: christa.dean@stb.dot.gov. Federal Information Relay Service for the hearing impaired: 1-800-877-8339.

DATES: The EA is available for public review and comment. All comments must be submitted or post-marked by November 30, 2009.

ADDRESSES: Send written comments to: Christa Dean, Surface Transportation Board, 395 E Street, SW., Room 1108, Washington, DC 20423.

Please reference STB Docket No. 35237 in all correspondence.

Comments on the EA may also be filed electronically on the Board's Web site, http://www.stb.dot.gov, by clicking on the “E-FILING” link.

Decided: October 26, 2009.
By the Board, Victoria Rutson, Chief, Section of Environmental Analysis.
Kulunie L. Cannon,
Clearance Clerk.

[FR Doc. E9-25435 Filed 10-23-09; 8:45 am]

BILLING CODE 4915-01-P